DEPARTMENT OF THE INTERIOR

Fish and Wildlife Service

[FWS-R3-R-2008-N0118; 30136-1265-0000-S3]

Leopold and St. Croix Wetland Management Districts in Wisconsin

AGENCY: Fish and Wildlife Service, Interior.

ACTION: Notice of availability: Draft comprehensive conservation plan and environmental assessment; request for comments.

SUMMARY: We, the U.S. Fish and Wildlife Service (Service), announce the availability of draft comprehensive conservation plans (CCP) and environmental assessments (EA) for the Leopold and St. Croix Wetland Management Districts (District(s), WMD(s)) for public review and comment. In the draft CCP/EAs, we describe how we propose to manage these districts for the next 15 years.

DATES: To ensure consideration, we must receive your written comments by August 25, 2008. Open house style meetings will be held during the comment period to receive comments and provide information on the draft plan. Special mailings, newspaper articles, Internet postings, and other media announcements will inform people of the meetings and opportunities for written comments.

ADDRESSES: Send your comments or requests for more information by any of the following methods. You may also drop off comments in person.

• Agency Web Site: View or download a copy of the documents and comment at http://www.fws.gov/midwest/planning/leopold and http://www.fws.gov/midwest/planning/stcroix.

• E-mail: r3planning@fws.gov. Include “Leopold Draft CCP/EA” or “St. Croix Draft CCP/EA”, as appropriate, in the subject line of the message.

• Fax: 608-745-0866 for Leopold WMD and 715-246-4670 for St. Croix WMD.

• U.S. Mail: Comments for Leopold WMD can be mailed to: District Manager, W10040 Cascade Mountain Road, Portage, Wisconsin 53901. Comments for St. Croix WMD can be mailed to: District Manager, 1764 95th Street, New Richmond, Wisconsin 54017.

FOR FURTHER INFORMATION CONTACT: Tom Kerr, St. Croix WMD, 715-246-7784 or Steve Lenz, Leopold WMD, 608-742-7100.

SUPPLEMENTARY INFORMATION:

Introduction

With this notice, we continue the CCP process for Leopold and St. Croix WMDs, which we started in 71 FR 20722 (April 21, 2006). For more about the initiation process, see that notice. Leopold and St. Croix WMDs are located in Wisconsin. Established in 1993, the Leopold WMD manages 53 waterfowl production areas (WPAs) totaling more than 12,000 acres in 17 southeastern Wisconsin counties. The District also administers 48 conservation easements within an eastern Wisconsin area of 34 counties. The St. Croix WMD, also established in 1993, manages 41 WPAs totaling 7,500 acres within an eight-county District of west-central Wisconsin. The District also administers 14 conservation easements. WPAs consist of wetland habitat surrounded by grassland and woodland communities. While WPAs are managed primarily for ducks and geese, they also provide habitat for a variety of other wildlife such as grassland birds, shorebirds, wading birds, mink, muskrat, wild turkey, and deer.

Background

The CCP Process

The National Wildlife Refuge System Administration Act of 1966, as amended by the National Wildlife Refuge System Improvement Act of 1997 (16 U.S.C. 668dd-668ee), requires us to develop a comprehensive conservation plan for each national wildlife refuge and wetland management district. The purpose in developing a CCP is to provide managers with a 15-year strategy for achieving district purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other governmental partners, and the public identified several priority issues, which were organized into five topics: Habitat management; habitat loss and fragmentation; land acquisition; public use; and service identity. To address these issues, we developed and evaluated the following alternatives during the planning process. The themes and approaches within the alternatives are consistent between the Districts.

Under all alternatives federally listed threatened and endangered species would be protected; coordination would occur with the Wisconsin Department of Natural Resources; visitors would feel safe and the resources would be protected through law enforcement; a proposal would be developed to construct new headquarters and shop facilities; and any undertaking would be analyzed for its potential to affect historic properties.

Alternative 1, Waterfowl Emphasis—Current Management Direction

Under Alternative 1 the activities of the Districts would continue as in the past with current staffing and resources. The target for each District would be to restore 150 acres of grassland per year. The 15 year target for wetland restoration would be 50 percent of the drained wetlands for Leopold WMD and 75 percent for St. Croix WMD. Up to 20 percent of the woodlands and oak savannah would be inventoried with the objective of restoring approximately 25 percent of the identified potential savannah. Invasive species would be inventoried and treated with the recognition that only a small portion of the affected acres would be dealt with. Land acquisition would continue as funds were available with the intent of establishing larger complexes of wetlands and grasslands. An objective would be to raise the quality of the visitor services programs over time, reaching a higher level of rating within 5 years. The rating would be based on the evaluation standards of the Refuge Annual Performance Plan, which use the criteria for quality described in the Service Manual. Five (Leopold) and two (St. Croix) WPAs would be more fully developed with visitor services facilities. The volunteer and partnership programs would continue at 2008 levels. Contacts with neighbors would continue to be limited and general knowledge of the District and Service identity and missions would remain unchanged.

Alternative 2, Waterfowl Emphasis With Increased Consideration for Other “Priority” Species and Low/Moderate Consideration for Visitor Services

Under Alternative 2, the types of habitat management activities of the Districts would continue, but with more acres affected. Monitoring of habitat and wildlife would increase compared to the current direction. Visitor services would improve about at the rate and extent of the current direction. The target for each District would be to restore 200 acres of grassland per year. The 15 year target for wetland restoration would be 75 percent of the drained wetlands for Leopold WMD and 90 percent for St. Croix WMD. Up to 90 percent of the woodlands and oak savannah would be inventoried with the objective of restoring approximately 75 percent (Leopold) and 80 percent (St. Croix) of the identified potential savannah. Invasive species would be inventoried on 100 percent of the Districts and would be treated on 25 percent (Leopold) and 50 percent (St. Croix) of District lands. Land acquisition would continue as funds were available with the intent of establishing larger complexes of wetlands and grasslands. An objective would be to raise the quality of the visitor services programs over time, reaching a higher level of rating within 5 years. Five (Leopold) and two (St. Croix) WPAs would be more fully developed with visitor services facilities. The volunteer and partnership programs would increase. Contacts with neighbors would increase slightly and general knowledge of the District and Service identity and missions would increase slightly. Full implementation of this alternative would require the addition of 1.5 full-time equivalents (Leopold) and 2.5 full-time equivalents (St. Croix) to the current staff.

Alternative 3, Waterfowl Emphasis With Low Increase in Management for Other Wildlife and Increased Consideration for Visitor Services

Under Alternative 3, the types and amounts of habitat management activities undertaken by the Districts would be similar to Alternative 1. Visitor services would expand and improve in quality compared with Alternative 1. Outreach activities would also be greater. An objective would be to raise the quality of the visitor services programs over time, reaching two higher levels of rating within 5 years. Seven (Leopold) and four (St. Croix) WPAs would be more fully developed with visitor services facilities. The volunteer and partnership programs would increase. Contacts with neighbors would increase and additional information would be provided to them. The general knowledge of the District and Service identity and mission would increase among neighbors and the community. Full implementation of this alternative would require the addition of 1.5 full-time equivalents (Leopold) and 2.5 full-time equivalents (St. Croix) to the current staff.

Alternative 4, Waterfowl Emphasis With Increased and Balanced Consideration for Other “Priority” Species, Their Habitats, Visitor Services and Neighborhood Relationships (Preferred Alternative)

Alternative 4 incorporates components of Alternatives 2 and 3. Under this alternative the types of habitat management activities of the Districts would continue, but with more acres affected. Monitoring of habitat and wildlife would increase compared to the current direction. Visitor services would expand and improve in quality compared to the current direction. Outreach activities would also be greater. The target for each District would be to restore 200 acres of grassland per year. The 15 year target for wetland restoration would be 75 percent of the drained wetlands for Leopold WMD and 90 percent for St. Croix WMD. Up to 90 percent of the woodlands and oak savannah would be inventoried with the objective of restoring approximately 75 percent (Leopold) and 80 percent (St. Croix) of the identified potential savannah. Invasive species would be inventoried on 100 percent of the Districts and would be treated on 25 percent (Leopold) and 50 percent (St. Croix) of District lands. The Districts would develop a monitoring program to determine waterfowl recruitment. Land acquisition would continue as funds were available with the intent of establishing larger complexes of wetlands and grasslands. Seven (Leopold) and four (St. Croix) WPAs would be more fully developed with visitor services facilities. The volunteer and partnership programs would increase. Contacts with neighbors and the expected effects would be the same as Alternative 3. Full implementation of this alternative would require the addition of 3.5 full-time equivalents (Leopold) and 3.5 full-time equivalents (St. Croix) to the current staff.

Public Meetings

We will give the public an opportunity to provide comments at public meetings. You may obtain the schedule from the addresses listed above (see ADDRESSES). You may also submit comments anytime during the comment period by writing to the above addresses.

Public Availability of Comments

Before including your address, phone number, e-mail address, or other personal identifying information, you should know that your entire comment—including your personal identifying information—may be made publicly available. While you may ask us in your comment to withhold your personal identifying information from public review, we cannot guarantee that we will be able to do so. All comments become part of the official public record, and we handle requests for such comments in accordance with the Freedom of Information Act, NEPA, and Service and Departmental policies and procedures.

Dated: May 22, 2008.
Charles M. Wooley,
Acting Regional Director, U.S. Fish and Wildlife Service, Fort Snelling, Minnesota.

[FR Doc. E8-17106 Filed 7-24-08; 8:45 am]

BILLING CODE 4310-55-P